DEPARTMENT OF ENERGY

Federal Energy Regulatory Commission

[Project No. 6885-009]

Richard Moss; Notice of Application Accepted for Filing and Soliciting Motions To Intervene and Protest

June 19, 2008.

Take notice that the following hydroelectric application has been filed with the Commission and is available for public inspection.

a. Type of Application: A Subsequent License (Minor Project).

b. Project No.: 6885-009.

c. Date Filed: January 31, 2008.

d. Applicant: Richard Moss.

e. Name of Project: Cinnamon Ranch Hydroelectric Project.

f. Location: On Middle Creek and Birch Creek, in the Hammil Valley area of Mono County, near the Town of Benton, California. The project occupies 0.13 acre of Forest Service lands within Inyo National Forest and 7.4 acres of lands administered by the Bureau of Land Management.

g. Filed Pursuant to: Federal Power Act 16 U.S.C. 791 (a)-825(r).

h. Applicant Contact: Don Moss, 8381 Foppiano Way, Sacramento, CA 95829, 916-715-6023.

i. FERC Contact: Gaylord Hoisington, (202) 502-6032 or gaylord.hoisington@FERC.gov.

j. Deadline for filing motions to intervene and protests and requests for cooperating agency status: 60 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link.

k. This application has been accepted, but is not ready for environmental analysis at this time.

l. The existing operating project was built in 1960 and has been furnishing electric power to the Cinnamon ranch since that time. The project consists of: (1) Two existing diversion flumes; (2) a 5,940-foot-long penstock; (3) a powerhouse containing a turbine and generator for a total installed capacity of 150 kilowatts; and (4) a 5,176-foot-long, 12 kilvoltV transmission line. The project is estimated to generate an average of 421,184 kilowatt-hours annually. The dam and existing project facilities are owned by the applicant. The applicant proposes no changes to facilities or operations.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) Bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Kimberly D. Bose,
Secretary.

[FR Doc. E8-14453 Filed 6-25-08; 8:45 am]

BILLING CODE 6717-01-P